DEPARTMENT OF HEALTH AND HUMAN SERVICES

Centers for Disease Control and Prevention

[Program Announcement AA048]

Cooperative Agreement for Promoting Disease Prevention and Health Policy; Notice of Intent To Fund Single Eligibility Award

A. Purpose

The purpose of the program is to develop and promote national health promotion and disease prevention strategies, with comprehensive prevention policy development and promotion addressing and involving multiple sectors as a premiere strategy, and to assist state and local health departments, and local, state, regional, and national health care organizations, businesses, and other nonprofit organizations in the implementation of prevention policies and programs to promote prevention, improve health care quality, and improve the public's health.

Authority: This program is authorized under Section 317(k)(2) of the Public Health Service Act (42 U.S.C. 247b(k)(2)) as amended.

The Catalog of Federal Domestic Assistance number for this program is 93.283.

B. Eligible Applicant

Assistance will be provided only to Partnership for Prevention. Partnership for Prevention is a truly cross-cutting organization involving representation from business, health care delivery, and community organizations, and involving multiple sectors and target groups in health prevention as compared with numerous other organizations who are single purpose or serve one particular target group or audience. Partnership for Prevention embraces the range of organizations and sectors necessary to impact the broad field of prevention and health promotion. It is a national nonprofit, nonpartisan organization dedicated to improving people's health by preventing disease and injury. Partnership's science-based policy tools and recommendations leverage America's investments in disease and injury prevention by ensuring that they make the greatest impact. Partnership represents prevention leaders in every sector committed to using prevention resources most effectively to improve health and control health costs through informed policy and practice. Partnership is a nonprofit organizations whose members and boards include public (public health, health nonprofits, academia) and private sector (businesses and for profit entity) representatives. The unique characteristics of Partnership for Prevention are (1) A mission focus on comprehensive prevention and prevention policy as a strategy to produce health impact; (2) a mission focus of engaging all sectors in prevention policy development and implementation and to make prevention policy relevant to all sectors; (3) a mission focus to engage all sectors in prevention policy; (4) extensive knowledge and experience in developing both comprehensive and categorical prevention policy; (5) extensive knowledge and experience in providing assistance in policy development and implementation with all sectors (health, business, education, government, etc.), and public, private, and nonprofits; (6) current, working knowledge of the evidence base on which to base comprehensive and categorical prevention policy; (7) knowledge of and current and extensive experience in working with the governmental sector at the national level as well as the State and Community level in developing and providing assistance for the implementation of policy; (8) established relationships with all sectors to convene stakeholders from sectors to work collaboratively on health policy and its implementation; (9) knowledge and skills to help multiple sectors understand health promotion and prevention to be the principal solution to many of their most pressing problems and to assist them in developing policies appropriate to their sector to find solutions through health promotion and prevention policies; (10) Experience and established relationships to connect policy to programs with a wide understanding of prevention programs and model programs available to support policy. (11) Opportunity to maximize resources for the long-term because mission is comprehensive prevention policy is linked to networks of cross-cutting leaders and stakeholders.

C. Funding

Approximately $1,500,000 is available in FY 2005 to fund one award. It is expected that the award will begin on or before September 15, 2005, and will be made for a 12-month budget period within a project period of five years. Funding estimates may change.

D. Where To Obtain Additional Information

For general comments or questions about this announcement, contact: Technical Information Management Section, CDC Procurement and Grants Office, 2920 Brandywine Road, Atlanta, GA 30341, Telephone: 770-488-2700.

For technical questions about this program, contact: Priscilla B. Holman, Ph.D., Project Officer, Office of Strategy and Innovation, Centers for Disease Control and Prevention (CDC), 1600 Clifton Road NE., Mailstop E-99, Atlanta, GA 30333, Telephone: 404-498-3302, E-mail: MWilson2@cdc.gov.

Dated: August 8, 2005.
William P. Nichols,
Director, Procurement and Grants Office, Centers for Disease Control and Prevention.

[FR Doc. 05-16006 Filed 8-11-05; 8:45 am]

BILLING CODE 4163-18-P